TRADE REPRESENTATIVE

Promoting U.S. EC Regulatory Compatibility

AGENCY: Office of the United States Trade Representative.

ACTION: Request for comments from the Public.

SUMMARY: The U.S. Government and European Commission (EC) share the goal of reducing excessive regulatory costs, unjustified regulatory differences, and unnecessary red tape while respecting each other's right to protect public health, safety, welfare, and the environment. Promoting this goal will help businesses to grow, create jobs, and compete globally. Enhanced cooperation will also help the United States to achieve its regulatory objectives in a more effective and efficient manner. The United States and EC have agreed to solicit comments from the public on how to promote greater transatlantic regulatory compatibility generally. Concrete ideas on how greater compatibility could be achieved in a particular economic sector are also requested.

DATES: In order to ensure timely consideration, written comments should be submitted no later than October 31, 2012.

FOR FURTHER INFORMATION CONTACT: David Weiner, Deputy Assistant U.S. Trade Representative for Europe, (202) 395-9679, or Kate J. Kalutkiewicz, Director for European Affairs, (202) 395-9460, Office of the United States Trade Representative, 600 17th Street NW., Washington, DC 20508.

Background

Transatlantic trade and investment constitute the largest economic relationship in the world, a relationship that is vital to the strength of our economies. The United States and the European Union (EU) are committed to identifying new ways to strengthen this vibrant economic partnership. During their November 28, 2011 Summit meeting, U.S. and EU leaders established the High Level Working Group on Jobs and Growth and tasked it to identify policies and measures to increase trade and investment to support mutually beneficial job creation, economic growth, and competitiveness, working closely with public and private sector stakeholder groups, and drawing on existing dialogues and mechanisms, as appropriate. The challenges posed by efforts to improve regulatory cooperation between the EU and the United States should not be underestimated. But there are reasons to be optimistic. Significant progress has been made in the HLRCF and also recently in the Transatlantic Economic Council (TEC), where the EU and the United States cooperate on future regulations affecting new and innovative growth markets and technologies. As we continue in the High Level Working Group on Jobs and Growth to examine the possibility of negotiations on horizontal and sectoral regulatory issues, we seek to continue to make progress through the HLRCF and the TEC with the help of additional information from the public. Your detailed input will b euseful when we define our priorities and explore next steps in the U.S.-EU High Level Regulatory Cooperation Forum (HLRCF) and contribute to the work of the U.S.-EU High Level Working Group on Jobs and Growth (HLWG). It will help us to identify both immediate and longer-term goals and mechanisms to accomplish them. We plan to explore these and other issues at a meeting in the fall involving EU and U.S. regulators, economic policy agencies, and stakeholders.

In that regard, the U.S. Government and EC invite your views on how to promote greater transatlantic regulatory compatibility generally. We also invite you to share your concrete ideas on how greater compatibility could be achieved in a particular economic sector by providing detailed information for that sector, including:

• Names of the relevant regulatory agencies in the EU and the United States;

• Citations to the relevant regulatory and/or statutory provisions for each jurisdiction (this is not meant to exclude potential cooperation in areas where neither jurisdiction has yet adopted such provisions);

• A description of the regulatory differences to be addressed (including any information on negative effects of these differences and on the entities or stakeholders affected by them);

• Possible solutions for bridging these differences (including both the substance of the solution—please be as specific as possible—and the proposed procedure for reaching it);

• Any steps that the EU and/or the United States should consider to address horizontal and/or sectoral differences between the two jurisdictions that may be impeding deeper regulatory compatibility in the sector—for example, differences with respect to technical regulations or in our respective approaches to standards; and

• An assessment of the effects of enhanced regulatory compatibility (quantified benefits and costs, if possible, or else qualitative descriptions), the likelihood of these effects occurring, and the time period over which they would occur.

We encourage trade association respondents, where possible, to submit views jointly with counterparts across the Atlantic.

Submissions: To facilitate expeditious handling, the public is strongly encouraged to submit documents electronically via http://www.regulations.gov, docket number USTR-2012-0028. Submissions should contain the term “U.S.-EU Regulatory Compatability” in the “Type comment & Upload file:” field on http://www.regulations.gov. To find the docket, enter the docket number in the “Enter Keyword or ID” window at the http://www.regulations.gov home page and click “Search.” The site will provide a search-results page listing all documents associated with this docket. Find a reference to this notice by selecting “Notices” under “Document Type” on the search-results page, and click on the link entitled “Submit a Comment.” (For further information on using the http:www.regulations.gov Web site, please consult the resources provided on the Web site by clicking on the “Help” tab.) The http://www.regulations.gov Web site provides the option of making submissions by filling in a comments field, or by attaching a document. USTR prefers submissions to be provided in an attached document. USTR prefers submissions in Microsoft Word (.doc) or Adobe Acrobat (.pdf). If the submission is in an application other than those two, please indicate the name of the application in the “Comments” field.

Daniel Mullaney,
Assistant U.S. Trade Representative for Europe and the Middle East.

[FR Doc. 2012-23613 Filed 9-27-12; 8:45 am]

BILLING CODE 3290-F2-P